NATIONAL SCIENCE FOUNDATION

Special Emphasis Panel in Integrative Activities; Notice of Meeting

In accordance with the Federal Advisory Committee Act (Pub L. 92-463, as amended), the National Science Foundation announces the following meeting:

Name: Special Emphasis Panel in Integrative Activities (1373).

Date and Time: November 15, 2000, 7 p.m.-9 p.m., November 16-17, 2000, 8:30 a.m.- 5:30 p.m.

Place: Rooms 130, 220, 340, 360, 365, 370, 380, 470, 530, 580, and 730, National Science Foundation, 4201 Wilson Blvd., Arlington, VA.

Type of Meeting: Closed.

Contact Person: Dr. Nathaniel G. Pitts, Director, Office of Integative Activities, Room 1270, 4201 Wilson Blvd, Arlington, VA 22230; Telephone: (703) 292-8040.

Purpose of Meeting: To provide advice and recommendations concerning proposals submitted to NSF for financial support.

Agenda: To review and evaluate preproposals submitted to the Science and Technology Centers: Integrative Partnerships Program.

Reason for Closing: The meeting is closed to the public because the Panel is reviewing proposal actions that will include privileged intellectual property and personal information that could harm individuals if they were disclosed. These matters are exempt under 5 U.S.C. 552b(c)(4) and (6) of the Government Sunshine Act.

Dated: September 27, 2000.
Karen J. York,
Committee Management Officer.

[FR Doc. 00-25218 Filed 9-29-00; 8:45 am]

BILLING CODE 7555-01-M